DEPARTMENT OF COMMERCE

National Oceanic and Atmospheric Administration

RIN 0648-XA626

Marine Mammals; File No. 16111

AGENCY: National Marine Fisheries Service (NMFS), National Oceanic and Atmospheric Administration (NOAA), Commerce.

ACTION: Notice; issuance of permit.

SUMMARY: Notice is hereby given that a permit has been issued to John Calambokidis, Cascadia Research Collective, Waterstreet Building, 218½ West Fourth Avenue, Olympia, WA 89501 to conduct research on marine mammals.

ADDRESSES: The permit and related documents are available for review upon written request or by appointment in the following offices: See SUPPLEMENTARY INFORMATION.

FOR FURTHER INFORMATION CONTACT: Carrie Hubard or Laura Morse, (301)427-8401.

SUPPLEMENTARY INFORMATION: On April 2, 2012, notice was published in the Federal Register (77 FR 19645) that a request for a permit to conduct research on cetaceans and pinnipeds had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

Permit No. 16111 authorizes Mr. Calambokidis to study cetaceans and pinnipeds in the eastern North Pacific, from Central America to Alaska. The research is a continuation of long-term studies designed to examine marine mammal abundance, distribution, population structure, habitat use, social structure, movement patterns, diving behavior, and diet. Focal species are blue (Balaenoptera musculus), fin (B. physalus), humpback (Megaptera novaeangliae), eastern gray (Eschrichtius robustus), sperm (Physeter macrocephalus), and beaked (Mesoplodon spp.) whales. An additional 15 cetacean species and five pinniped species may be studied, including the endangered sei whale (B. borealis), endangered Southern Resident stock of killer whales (Orcinus orca), and the threatened eastern stock of Steller sea lions (Eumetopias jubatus). Vessel research includes photo-identification, behavioral focal follows, underwater observations and filming, hydroacoustic prey determination, passive acoustic recording, breath sampling, biopsy sampling, collection of sloughed skin, and attachment of suction cup and dart tags. Aerial surveys may be conducted to study abundance and distribution, and to track tagged animals. Ground surveys may be conducted for population counts and scat collection to study harbor seals (Phoca vitulina) and other pinnipeds at haul-out areas in Puget Sound and throughout Washington. Permit No. 16111 expires on July 15, 2017.

An environmental assessment (EA) was prepared analyzing the effects of the permitted activities on the human environment in compliance with the National Environmental Policy Act of 1969 (42 U.S.C. 4321 et seq.). Based on the analyses in the EA, NMFS determined that issuance of the permit would not significantly impact the quality of the human environment and that preparation of an environmental impact statement was not required. That determination is documented in a Finding of No Significant Impact, signed on July 12, 2012.

As required by the ESA, issuance of this permit was based on a finding that such permit: (1) Was applied for in good faith; (2) will not operate to the disadvantage of such endangered species; and (3) is consistent with the purposes and policies set forth in section 2 of the ESA.

Documents may be reviewed in the following locations:

Permits and Conservation Division, Office of Protected Resources, NMFS, 1315 East-West Highway, Room 13705, Silver Spring, MD 20910; phone (301) 427-8401; fax (301) 713-0376;

Northwest Region, NMFS, 7600 Sand Point Way NE., BIN C15700, Bldg. 1, Seattle, WA 98115-0700; phone (206) 526-6150; fax (206) 526-6426;

Alaska Region, NMFS, P.O. Box 21668, Juneau, AK 99802-1668; phone (907) 586-7221; fax (907) 586-7249; and

Southwest Region, NMFS, 501 West Ocean Blvd., Suite 4200, Long Beach, CA 90802-4213; phone (562) 980-4001; fax (562) 980-4018.

Dated: July 23, 2012.
P. Michael Payne,
Chief, Permits and Conservation Division, Office of Protected Resources, National Marine Fisheries Service.

[FR Doc. 2012-18397 Filed 7-26-12; 8:45 am]

BILLING CODE 3510-22-P